DEPARTMENT OF DEFENSE

Office of the Secretary

[Transmittal No. 20-29]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 20-29, Policy Justification, and Sensitivity of Technology.

Dated: January 8, 2026.
Stephanie J. Bost,
Alternate OSD Federal Register Liaison Officer, Department of Defense.

BILLING CODE 6001-FR-P

BILLING CODE 6001-FR-C

Transmittal No. 20-29

Notice of Proposed Issuance of Letter of Offer Pursuant to Section 36(b)(1) of the Arms Export Control Act, as amended

(i) Prospective Purchaser: Government of Egypt

(ii) Total Estimated Value:

Major Defense Equipment * | $ 0
Other | $4.69 billion
TOTAL | $4.69 billion

Funding Source: Foreign Military Financing (FMF)

(iii) Description and Quantity or Quantities of Articles or Services under Consideration for Purchase: The Government of Egypt has requested a possible sale to refurbish and upgrade five hundred fifty-five (555) M1A1 Abrams tanks into M1A1SA configuration tanks.

Major Defense Equipment (MDE):

None

Non-Major Defense Equipment:

The following non-MDE items will also be included: Five hundred fifty-five (555) AN/VAS-5B Driver Vision Enhancer (DVE-A) kits; five hundred fifty-five (555) Thermal Imaging System (TIS) gunner sights; AGT-1500 tank engines; X-1100 tank transmissions; M250 smoke grenade launchers; spare parts; support equipment; depot level support; Government furnished equipment (GFE); repair parts; repair and return program; United States (U.S.) Government and contractor engineering, technical, and logistics support services; and other related elements of logistics and program support.

(iv) Military Department: Army (EG-B-VJE)

(v) Prior Related Cases, if any: EG-B-NFY

(vi) Sales Commission, Fee, etc., Paid, Offered, or Agreed to be Paid: None known

(vii) Sensitivity of Technology Contained in the Defense Article or Defense Services Proposed to be Sold: See Attached Annex

(viii) Date Report Delivered to Congress: December 20, 2024

* as defined in Section 47(6) of the Arms Export Control Act.

POLICY JUSTIFICATION

Egypt—Abrams Tank Refurbishment, Support, and Equipment

The Government of Egypt has requested a possible sale to refurbish and upgrade five hundred fifty-five (555) M1A1 Abrams tanks into M1A1SA configuration tanks. The following non-MDE items will also be included: five hundred fifty-five (555) AN/VAS-5B Driver Vision Enhancer (DVE-A) kits; five hundred fifty-five (555) Thermal Imaging System (TIS) gunner sights; M250 smoke grenade launchers; AGT-1500 tank engines; X-1100 tank transmissions; spare parts; support equipment; depot level support; Government furnished Equipment (GFE); repair parts; repair and return program; U.S. Government and contractor engineering, technical, and logistics support services; and other related elements of logistics and program support. The estimated total program cost is $4.69 billion.

This proposed sale will support the foreign policy and national security of the U.S. by helping to improve the security of a major non-NATO ally that continues to be an important strategic partner in the Middle East. Egypt is the only country in the world, other than the U.S., that produces the M1A1 Abrams. The Egyptian Refurbishment Program will significantly contribute to the flow of M1A1 components and parts from the United States, creating economies of scale and reducing overall unit price of scarce M1A1 parts for the Department of Defense and other U.S. security partners.

This proposed sale will contribute to the modernization of Egypt's main battle tank fleet, enhancing its ability to meet current and future threats. These tanks will contribute to Egypt's goal of updating its military capability while further enhancing interoperability with the United States and other allies. Egypt will have no difficulty absorbing this equipment into its armed forces, as this program does not provide additional tanks and updating Egypt's tanks to a common, modern configuration will reduce obsolescence and positively impact the logistics supply chain.

The proposed sale of this equipment and support will not alter the basic military balance in the region.

The M1A1SA tank contractor will be General Dynamics Land Systems, located in Sterling Heights, MI. Refurbishment and upgrade will take place at the Egyptian Tank Plant, located in Cairo, Egypt. There are no known offset agreements proposed in connection with this potential sale.

Implementation of this proposed sale will require semi-annual trips to Egypt involving up to twenty U.S. Government and twenty contractor representatives for a period of up to ten years to manage the refurbishment, fielding, and training for the program.

There will be no adverse impact on U.S. defense readiness as a result of this proposed sale.

Transmittal No. 20-29

Notice of Proposed Issuance of Letter of Offer Pursuant to Section 36(b)(1) of the Arms Export Control Act

Annex

Item No. vii

(vii) Sensitivity of Technology:

1. The AN/VAS-5B Driver Vision Enhancer—Abrams (DVE-A) is a passive thermal imaging system used to enhance a driver's viewing capabilities while operating during degraded visual conditions such as darkness, fog, smoke, or dust. The DVE-A is a model of the DVE designed specifically for the Abrams tank that allows safe, rapid egress for the driver. The DVE-A utilizes a 640 x 480 long wave detector.

2. The AGT 1500 Gas Turbine Propulsion System, used in the Abrams tank, is a unique application of armored vehicle power pack technology. The hardware is composed of the AGT-1500 engine and X-1100 transmission.

3. The Thermal Imaging System (TIS) gunner's sight constitutes a target acquisition system which, when operated with other tank systems, gives the tank crew a substantial advantage over potential threats. The TIS provides the gunner and commander with the ability to effectively aim and fire the tank main armament system under a broad range of adverse battlefield conditions.

4. A major survivability feature of the Abrams tank is the compartmentation of fuel and ammunition. Compartmentation is the positive separation of the crew and critical components from combustible materials such that if the fuel or ammunition is ignited or detonated by an incoming threat round, the crew is fully protected. Compartmentation significantly enhances crew survivability and substantially reduces the likelihood of the tank being immobilized by an ammunition explosion and fire.

5. The highest level of classification of defense articles, components, and services included in this potential sale is SECRET.

6. If a technologically advanced adversary were to obtain knowledge of the hardware and software elements, the information could be used to develop countermeasures or equivalent systems which might reduce system effectiveness or be used in the development of a system with similar or advanced capabilities.

7. A determination has been made that Egypt can provide substantially the same degree of protection for the sensitive technology being released as the U.S. Government. This sale is necessary in furtherance of the U.S. foreign policy and national security objectives outlined in the Policy Justification.

8. All defense articles and services listed in this transmittal have been authorized for release and export to the Government of Egypt.

[FR Doc. 2026-00359 Filed 1-9-26; 8:45 am]

BILLING CODE 6001-FR-P